ENVIRONMENTAL PROTECTION AGENCY

40 CFR Part 713

[EPA-HQ-OPPT-2017-0421; FRL-9971-82]

RIN 2070-AK22

Mercury; Reporting Requirements for the TSCA Mercury Inventory; Extension of Comment Period

AGENCY: Environmental Protection Agency (EPA).

ACTION: Proposed rule; extension of comment period.

SUMMARY: EPA issued a document in the Federal Register of October 26, 2017, concerning proposed reporting requirements for applicable persons to provide information to assist in the preparation of an “inventory of mercury supply, use, and trade in the United States.” This document extends the comment period for 16 days, from December 26, 2017 to January 11, 2018. EPA received requests to extend the comment period and believes it is appropriate to do so in order to give stakeholders additional time to assess the impacts of the proposal, review technical documents in the docket, and prepare comments.

DATES: Comments, identified by docket identification number EPA-HQ-OPPT-2017-0421, must be received on or before January 11, 2018.

ADDRESSES: Follow the detailed instructions provided under ADDRESSES in the Federal Register document of October 26, 2017 (82 FR 49564) (FRL-9970-07).

FOR FURTHER INFORMATION CONTACT:

For technical information contact: Thomas Groeneveld, National Program Chemicals Division, Office of Pollution Prevention and Toxics, Environmental Protection Agency, 1200 Pennsylvania Ave. NW, Washington, DC 20460-0001; telephone number: (202) 566-1188; email address: groeneveld.thomas@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of October 26, 2017 (82 FR 49564) (FRL-9970-07). EPA is hereby extending the comment period, which was set to end on December 26, 2017, to January 11, 2018.

To submit comments, or access the docket, please follow the detailed instructions provided under ADDRESSES in the Federal Register document of October 26, 2017 (82 FR 49564) (FRL-9970-07). If you have questions, consult the technical person listed under FOR FURTHER INFORMATION CONTACT.

List of Subjects in 40 CFR Part 713

Environmental protection, Mercury, Elemental mercury, Mercury compounds, Inventory, Supply, Use, Trade, Manufacture, Import, Export.

Dated: December 6, 2017.
Charlotte Bertrand,
Acting Principal Deputy Assistant Administrator.

[FR Doc. 2017-27217 Filed 12-18-17; 8:45 am]

BILLING CODE 6560-50-P